DEPARTMENT OF TRANSPORTATION

National Highway Traffic Safety Administration

[Docket No. NHTSA 2000-8014; Notice 1]

Mercedes-Benz USA, Receipt of Application for Decision of Inconsequential Noncompliance

Mercedes-Benz, U.S.A., L.L.C., Montvale, New Jersey (MBUSA), has determined that a limited number of model year 2000 Mercedes-Benz CL500 vehicles were produced and sold with upper beam headlamps that do not meet the photometric requirements mandated by Federal Motor Vehicle Safety Standard (FMVSS) No. 108, “Lamps, Reflective Devices, and Associated Equipment.” A number of Mercedes-Benz CL500 vehicles were produced with upper beam headlamps that exceed the photometric limits of FMVSS 108.

Pursuant to 49 U.S.C. 30118(d) and 30120(h), Mercedes-Benz has petitioned for a determination that this noncompliance is inconsequential to motor vehicle safety and has filed an appropriate report pursuant to 49 CFR part 573, “Defect and Noncompliance Reports.”

This notice of receipt of this application is published under 49 U.S.C. 30118 and 30120 and does not represent any agency decision or other exercise of judgment concerning the merits of the application.

Mercedes-Benz CL500 vehicles are equipped with Xenon headlamps. The lamps are a type of lighting technology that replaces the filament of the light bulb with a capsule of gas, in this case Xenon. When high voltage is applied, the Xenon gas is ignited to produce an arc of light. The amount of light produced is greater than a standard halogen bulb, while consuming less power, and more closely approximating the color temperature of natural daylight. When the lower beams of the Mercedes-Benz CL500 are illuminated, the Xenon lamps are illuminated and, through the use of a mechanical flap, are directed at an angle that optimizes illumination of road surfaces in front of the vehicle. In lower-beam mode the Xenon lamps meet all photometric requirements outlined in FMVSS 108. When the upper beam headlamps are activated, the mechanical flap alters the angle of the Xenon lamp illumination to provide higher angle illumination. In 613 Model Year 2000 CL500 vehicles, in addition to the Xenon lamp, a separate H7 lamp was improperly wired to illuminate at the same time the mechanical flap was activated to increase the Xenon light angle. In upper-beam mode, the Xenon and H7 lamp combination emit 89,000 candela of light and 12,731 candela of light at test points H,V and 4D-V respectively. This measurement exceeds the maximum photometric requirements of FMVSS 108 by approximately 20 percent.

MBUSA does not believe that the foregoing noncompliance will impact motor vehicle safety for the following reasons:

(1) Only a very limited number of Mercedes-Benz CL500 vehicles were produced containing the foregoing noncompliance (613 units). This number represents only minimal percentage of all vehicles operating in the United States.

(2) Upper beam headlamps are not legal in States for operation in the presence of oncoming traffic. Therefore, the higher output upper beam headlamps will likely not even be noticed by other drivers or vehicle occupants. Moreover, MBUSA believes that the approximately 20% increase in upper beam headlamp output in affected CL500's is indistinguishable to occupants of oncoming vehicles.

(3) With regards to the driver of the affected vehicles, MBUSA believes that the increase in output for upper beam headlamps may actually enhance vehicle safety in that drivers will have a greater view down the road thereby providing earlier warning of obstacles in the vehicle's intended path of travel.

MBUSA has not received, nor is the Company aware of, any complaints, accidents or injuries caused by the higher output upper beam headlamps.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: November 3, 2000.

(49 U.S.C. 301118, 301120; delegations of authority at 49 CFR 1.50 and 501.8)
Issued on: September 28, 2000.
Stephen R. Kratzke,
Associate Administrator for Safety Performance Standards.

[FR Doc. 00-25436 Filed 10-3-00; 8:45 am]

BILLING CODE 4910-59-P